ENVIRONMENTAL PROTECTION AGENCY

40 CFR Part 141

[Docket No. OW-2004-0001; FRL-8261-7]

RIN 2040-AD93

Unregulated Contaminant Monitoring Regulation (UCMR) for Public Water Systems Revisions

Correction

In correction document Z6-22123 appearing on page 3916 in the issue of Friday, January 26, 2007 make the following correction:

The billing code should appear as set forth below.

[FR Doc. Z6-22123 Filed 1-29-07; 8:45 am]

BILLING CODE 1505-01-D

SECURITIES AND EXCHANGE COMMISSION

[Release No. 34-55004; File No. SR-NYSEArca-2006-33]

Self-Regulatory Organizations; NYSE Arca, Inc; Notice of Filing and Order Granting Accelerated Approval of Proposed Rule Change to Trade the iShares® S&P Europe 350 Index Fund Pursuant to Unlisted Trading Privileges

Correction

In notice document E6-22445 beginning on page 173 in the issue of Wednesday, January 3, 2007, make the following correction:

On page 175, in the first column, in the last line of the first paragraph, “January 23, 2007” should read “January 24, 2007”.

[FR Doc. Z6-22445 Filed 1-29-06; 8:45 am]

BILLING CODE 1505-01-D